NUCLEAR REGULATORY COMMISSION

[Docket No. NRC-2012-0058]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on April 11, 2012 (77 FR 21813).

1. Type of submission, new, revision, or extension: Extension.

2. The title of the information collection: 10 CFR part 30—Rules of General Applicability to Domestic Licensing of Byproduct Material.

3. Current OMB approval number: 3150-0017.

4. The form number if applicable: N/A.

5. How often the collection is required: Required reports are collected and evaluated on a continuing basis as events occur. There is a one-time submittal of information to receive a license. Renewal applications are submitted every 10 years. Information submitted in previous applications may be referenced without being resubmitted. In addition, recordkeeping must be performed on an on-going basis.

6. Who will be required or asked to report: All persons applying for or holding a license to manufacture, produce, transfer, receive, acquire, own, possess, or use radioactive byproduct material.

7. An estimate of the number of annual responses: 37,398 (4,999 NRC Licensee responses [2,040 responses + 2,959 recordkeepers] and (32,399 Agreement State Licensee responses [13,267 responses + 19,132 recordkeepers]).

8. The estimated number of annual respondents: 22,091 (2,959 NRC Licensees and 19,132 Agreement State Licensees).

9. An estimate of the total number of hours needed annually to complete the requirement or request: 302,697 (NRC licensees 40,327 hours [18,258 reporting + 22,069 recordkeeping] and Agreement State licensees 262,370 hours [118,913 reporting + 143,457 recordkeeping]).

10. Abstract: Title 10 of the Code of Federal Regulations (10 CFR) part 30, establishes requirements that are applicable to all persons in the United States governing domestic licensing of radioactive byproduct material. The application, reporting and recordkeeping requirements are necessary to permit the NRC to make a determination whether the possession, use, and transfer of byproduct material is in conformance with the Commission's regulations for protection of the public health and safety.

The public may examine and have copied for a fee publicly available documents, including the final supporting statement, at the NRC's Public Document Room, Room O-1F21, One White Flint North, 11555 Rockville Pike, Rockville, Maryland 20852. OMB clearance requests are available at the NRC's Web site: http://www.nrc.gov/public-involve/doc-comment/omb/.

The document will be available on the NRC home page site for 60 days after the signature date of this notice. Comments and questions should be directed to the OMB reviewer listed below by September 5, 2012. Comments received after this date will be considered if it is practical to do so, but assurance of consideration cannot be given to comments received after this date.

Chad Whiteman, Desk Officer, Office of Information and Regulatory Affairs (3150-0017), NEOB-10202, Office of Management and Budget, Washington, DC 20503.

Comments can also be emailed to Chad_S_Whiteman@omb.eop.gov or submitted by telephone at 202-395-4718.

The NRC Clearance Officer is Tremaine Donnell, 301-415-6258.

Dated at Rockville, Maryland, this 31st day of July, 2012.
For the Nuclear Regulatory Commission.
Tremaine Donnell,
NRC Clearance Officer, Office of Information Services.

[FR Doc. 2012-19072 Filed 8-3-12; 8:45 am]

BILLING CODE 7590-01-P